DEPARTMENT OF COMMERCE

Foreign-Trade Zones Board

[Docket 56-2009]

Foreign-Trade Zone 152—Burns Harbor, IN; Application for Reorganization/Expansion

An application has been submitted to the Foreign-Trade Zones Board (the Board) by the Ports of Indiana, grantee of Foreign-Trade Zone 152, requesting authority to reorganize/expand its zone in the Burns Harbor, Indiana area, within the Chicago Customs and Border Protection port of entry. The application was submitted pursuant to the provisions of the Foreign-Trade Zones Act, as amended (19 U.S.C. 81a-81u), and the regulations of the Board (15 CFR Part 400). It was formally filed on December 14, 2009.

FTZ 152 was approved by the Board on December 9, 1988 (Board Order 393, 53 FR 52454, 12/28/88) and expanded on March 9, 1992 (Board Order 563, 57 FR 9103, 3/16/92) and September 16, 1993 (Board Order 654, 58 FR 50330, 9/27/93). The general-purpose zone currently consists of six sites in the Burns Harbor/Gary, Indiana area: Site 1: (533,288 sq. ft.) located at 201 Mississippi Street, within the Great Lakes Industrial Center, Gary; Site 2: (441 acres) within the Port of Indianal/Burns International Harbor, Porter County, Indiana; Site 3: (330 acres) within the Gary Regional Airport Complex located at 6001 West Industrial Highway, Gary; Site 4: (50 acres) located at 700 Chase Street, Gary (expires 6/30/10); Site 5: (152,548 sq. ft.) located at 240 Waite Street, Gary (expires 9/1/10); and, Site 6: (277,455 sq. ft.) located at 425 W. 151st Street, East Chicago, Indiana (expires 9/1/10).

The applicant is now requesting authority to expand the general-purpose zone by permanently including the 50 acres located at Site 4, returning 50 acres to Site 3 and permanently including the 152,548 sq. ft. located at Site 5.

No specific manufacturing authority is being requested at this time. Such requests would be made to the Board on a case-by-case basis.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is March 1, 2010. Rebuttal comments in response to material submitted during the foregoing period may be submitted during the subsequent 15-day period to March 16, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Claudia Hausler at Claudia.Hausler@trade.gov or (202) 482-1379.

Dated: December 16, 2009.
Andrew McGilvray,
Executive Secretary.

[FR Doc. E9-30527 Filed 12-30-09; 8:45 am]

BILLING CODE 3510-DS-M